DEPARTMENT OF TRANSPORTATION

Federal Aviation Administration

Twelfth Meeting: RTCA Special Committee 222, Inmarsat AMS(R)S

AGENCY: Federal Aviation Administration (FAA), U.S. Department of Transportation (DOT).

ACTION: Meeting Notice of RTCA Special Committee 222, Inmarsat AMS(R)S.

SUMMARY: The FAA is issuing this notice to advise the public of the twelfth meeting of the RTCA Special Committee 222, Inmarsat AMS(R)S.

DATES: The meeting will be held February 20, 2013, from 1:00 p.m.—4:00 p.m.

ADDRESSES: The meeting will be held at the RTCA Headquarters, 1150 18th Street NW., Suite 910, Washington DC 20036.

FOR FURTHER INFORMATION CONTACT: The RTCA Secretariat, 1150 18th Street NW., Suite 910, Washington, DC, 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 222. The agenda will include the following:

February 01, 2013

• Greetings & Attendance.

• Review summary of 11th Plenary (November 2012) meeting.

• Finalize comment resolution for new DO-xxx, Minimum Aviation System Performance Standard for AMS(R)S Data and Voice Communications Supporting Required Communications Performance (RCP) and required surveillance performance (RSP) in Procedural Airspace.

• Status, update and review of SSB-specific material for DO 262A.

• Other items as appropriate.

• Review action items from 11th Plenary.

• Schedule 13th Plenary.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on December 14, 2012.
Paige Williams,
Management Analyst, Business Operations Group, NextGen, Management Services, Federal Aviation Administration.

[FR Doc. 2013-02596 Filed 2-5-13; 8:45 am]

BILLING CODE 4910-13-P